DEPARTMENT OF STATE

22 CFR Part 51

[Public Notice: 11457]

RIN 1400-AE68

Passports: Proposed Rule Allowing Passport Applicants Eligible To Apply By Mail for Renewal of Passports the Additional Option To Apply On-Line

AGENCY: Department of State.

ACTION: Proposed rule.

SUMMARY: Pursuant to Department regulations, the renewal of a U.S. passport must meet certain requirements to qualify for submission of an application by mail. The Department proposes to amend this rule by allowing qualified applicants the option of submitting renewal applications by mail or online via the Department's official website. This amendment will provide more flexibility for the renewal applicant, improve the customer experience, and eliminate the added burden, time, and cost to the customer by providing the on-line option as an alternative to the mail in process.

DATES: The Department of State will accept comments until October 8, 2021.

ADDRESSES: Interested parties may submit comments to the Department by any of the following methods:

• Visit the Regulations.govwebsite at: http://www.regulations.gov and search for the docket number DOS-2021-0016.

• Email: PassportOfficeofAdjudicationGeneral@state.gov. You must include RIN 1400-AE68 in the subject line of your message.

• Mail paper submissions: Office of Adjudication, Passport Services, U.S. Department of State, 44132 Mercure Circle, P.O. Box 1243, Sterling, VA 20166-1243, ATTN: OPR.

• All comments should include the commenter's name, the organization the commenter represents, if applicable, and the commenter's address. If the Department is unable to read your comment for any reason, and cannot contact you for clarification, the Department may not be able to consider your comment. After the conclusion of the comment period, the Department will publish a Final rule (in which it will address relevant comments) as expeditiously as possible.

FOR FURTHER INFORMATION CONTACT: Karen Pizza, Office of Adjudication, Passport Services, (202) 485-8800, or email PassportOfficeofAdjudicationGeneral@state.gov.

SUPPLEMENTARY INFORMATION: Currently when applying for a renewal of a U.S. passport, applicants must meet certain criteria to use the mail-in application form. These mail-in applications are processed through the Lockbox where fees, applicant data, and photo images are captured. The Lockbox transmits this data and the physical applications to a passport agency or center for further processing.

The Department proposes to amend 22 CFR 51.21(b), (b)(2), (b)(3); and 51.8(a), (b), (c), (d) to allow eligible applicants the option to apply on-line via MyTravelGov, which can be found on the Department's official website. Online Passport Renewal (OPR) refers to the electronic capability for processing renewal applications in a paperless environment. Applicants must meet all eligibility requirements for using OPR or will be referred to the paper application process. Applicants using OPR will enter their application information and upload their photos directly into the OPR system, and submit their payment through pay.gov. This process will improve efficiency and accessibility by offering online verification of renewal eligibility, electronic photo upload, and electronic payment. Applications received through OPR will automatically enter review queues at a passport agency or center, thus eliminating the physical application and processing at the Lockbox. The new OPR system will improve the customer experience, reduce operational and maintenance costs, and focus on data quality, protection, and traceability. The first release of the OPR system will apply to persons in the United States, with the intent for future releases applying to persons abroad.

Regulatory Findings

Administrative Procedure Act

The Department is publishing this rule as a proposed rule and is providing 60 days for public comments.

Regulatory Flexibility Act

The Department of State, in accordance with the Regulatory Flexibility Act (5 U.S.C. 605(b)), has reviewed this regulation and, by approving it, certifies that this rule will not have a significant economic impact on a substantial number of small entities. This rule gives greater flexibility to applicants residing in the United States, who are applying to renew their U.S. passport.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Congressional Review Act

This rule is not a major rule as defined by the Congressional Review Act. This rule will not result in an annual effect on the economy of $100 million or more; a major increase in costs or prices; or significant adverse effects on competition, employment, investment, productivity, innovation, or on the ability of United States-based companies to compete with foreign based companies in domestic and import markets.

Executive Order 12866

This rule is not a “significant regulatory action” under Executive Order 12866, section 3(f), Regulatory Planning and Review. The Department does not anticipate that demand for passport services will change as a result of this rule change.

Executive Orders 12372 and 13132—Federalism

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement. The regulations implementing Executive Order 12372 regarding intergovernmental consultation on Federal programs and activities do not apply to this regulation.

Executive Order 13175—Consultation With Tribal Governments

The Department has determined that this rulemaking will not have tribal implications, will not impose substantial direct compliance costs on Indian tribal governments, and will not pre-empt tribal law. Accordingly, the requirements of E.O. 13175 do not apply to this proposed rule.

Paperwork Reduction Act

This rule does not impose any new reporting or record-keeping requirements subject to the Paperwork Reduction Act, 44 U.S.C. Chapter 35.

List of Subjects in 22 CFR Part 51

Passports.

Accordingly, for the reasons set forth in the preamble, 22 CFR part 51 is proposed to be amended as follows:

PART 51—PASSPORTS

1. The authority citation for part 51 continues to read as follows:

Authority: 8 U.S.C. 1504; 18 U.S.C. 1621; 22 U.S.C. 211a, 212, 212b, 213, 213n (Pub. L. 106-113 Div. B, Sec. 1000(a)(7) [Div. A, Title II, Sec. 236], 113 Stat. 1536, 1501A-430); 214, 214a, 217a, 218, 2651a, 2671(d)(3), 2705, 2714, 2714a, 2721, & 3926; 26 U.S.C. 6039E; 31 U.S.C. 9701; 42 U.S.C. 652(k) [Div. B, Title V of Pub. L. 103-317, 108 Stat. 1760]; E.O. 11295, Aug. 6, 1966, FR 10603, 3 CFR, 1966-1970 Comp., p. 570; Pub. L. 114-119, 130 Stat. 15; Sec. 1 of Pub. L. 109-210, 120 Stat. 319; Sec. 2 of Pub. L. 109-167, 119 Stat. 3578; Sec. 5 of Pub. L. 109-472, 120 Stat. 3554; Pub. L. 108-447, Div. B, Title IV, Dec. 8, 2004, 118 Stat. 2809; Pub. L. 108-458, 118 Stat. 3638, 3823 (Dec. 17, 2004).

2. Section 51.8 is revised to read as follows:

§ 51.8 Submission of currently valid passport.

(a) When applying for a new passport in person or by mail, an applicant must submit for cancellation any currently valid passport of the same type.

(b) When applying for a new passport on-line, an applicant must have the currently valid passport of the same type available for cancellation via the on-line process.

(c) If an applicant is unable to produce a passport under paragraph (a) or (b) of this section, he or she must submit a signed statement in the form prescribed by the Department setting forth the circumstances regarding the disposition of the passport.

(d) The Department may deny or limit a passport if the applicant has failed to provide a sufficient and credible explanation for lost, stolen, altered or mutilated passport(s) previously issued to the applicant, after being given a reasonable opportunity to do so.

3. Section 51.21 is amended by revising paragraph (b) subject heading and paragraph (b)(2), and adding paragraph (b)(3) to read as follows:

§ 51.21 Execution of passport application.

* * * * *

(b) Application by mail or on-line—persons in the United States.

* * * * *

(2) A person in the United States who previously has been issued a passport valid for 10 years in their own name may apply for a new passport by filling out, signing, and submitting an on-line application via the Department's official website if:

(i) The applicant's most recently issued passport of the same type was issued when the applicant was 16 years of age or older, and has one year or less of validity remaining;

(ii) The application is submitted not more than 15 years following the issue date of the most recently issued passport of the same type;

(iii) The first release of the OPR system will require that the application be submitted in the same name, sex marker, date of birth, and place of birth as the most recently issued passport of the same type with the intent that future releases will permit changes; and

(iv) The most recently issued passport of the same type is available for verification via the on-line process.

(3) The applicant must also provide photographs as prescribed by the Department and pay the applicable fees prescribed in the Schedule of Fees for Consular Services (22 CFR 22.1).

* * * * *

Rachel Arndt,
Deputy Assistant Secretary, Bureau of Consular Affairs, Department of State.

[FR Doc. 2021-16928 Filed 8-6-21; 8:45 am]

BILLING CODE 4710-06-P